ENVIRONMENTAL PROTECTION AGENCY

40 CFR Parts 52 and 70

[NE 071-1071b; FRL-6521-5]

Approval and Promulgation of Implementation Plans and Operating Permits Programs, and Approval Under Section 112(l); State of Nebraska

AGENCY: Environmental Protection Agency (EPA).

ACTION: Proposed rule.

SUMMARY: EPA proposes to approve the State Implementation Plan (SIP) revision submitted by the state of Nebraska on February 5, 1999. This revision consists of updates to Title 129—Nebraska Air Quality Regulations, Chapters 1, 2, 5, 6, 7, 8, 10, 17, 22, 25, 34, 35, 41, and Appendix II. The state also requested that EPA approve revisions adopted by the Lincoln-Lancaster County Health Department, Lincoln, Nebraska, and the city of Omaha in rulemaking actions taken by them in 1998. Approval of this SIP revision will make these rule revisions Federally enforceable. EPA is also approving revisions to the agency's part 70 operating permits programs.

In the final rules section of the Federal Register, EPA is approving the state's SIP revisions as a direct final rule without prior proposal because the Agency views this as a noncontroversial revision amendment and anticipates no relevant adverse comments. A detailed rationale for the approval is set forth in the direct final rule. If no relevant adverse comments are received in response to this action, no further activity is contemplated in relation to this proposed rule. If EPA receives relevant adverse comments, the direct final rule will be withdrawn and all public comments received will be addressed in a subsequent final rule based on this proposed rule. EPA will not institute a second comment period on this document. Any parties interested in commenting on this document should do so at this time.

DATES: Comments on this proposed action must be received in writing by February 22, 2000.

ADDRESSES: Comments may be mailed to Wayne A. Kaiser, Environmental Protection Agency, Air Planning and Development Branch, 901 North 5th Street, Kansas City, Kansas 66101.

FOR FURTHER INFORMATION CONTACT: Wayne A. Kaiser at (913) 551-7603.

SUPPLEMENTARY INFORMATION: See the information provided in the direct final rule which is located in the rules section of the Federal Register.

Dated: December 14, 1999.
William Rice,
Acting Regional Administrator, Region VII.

[FR Doc. 00-619 Filed 1-19-00; 8:45 am]

BILLIING CODE 6560-50-P